DEPARTMENT OF HOMELAND SECURITY

Federal Emergency Management Agency

[Docket ID FEMA-2019-0002]

Changes in Flood Hazard Determinations

AGENCY: Federal Emergency Management Agency, DHS.

ACTION: Notice.

SUMMARY: New or modified Base (1-percent annual chance) Flood Elevations (BFEs), base flood depths, Special Flood Hazard Area (SFHA) boundaries or zone designations, and/or regulatory floodways (hereinafter referred to as flood hazard determinations) as shown on the indicated Letter of Map Revision (LOMR) for each of the communities listed in the table below are finalized. Each LOMR revises the Flood Insurance Rate Maps (FIRMs), and in some cases the Flood Insurance Study (FIS) reports, currently in effect for the listed communities. The flood hazard determinations modified by each LOMR will be used to calculate flood insurance premium rates for new buildings and their contents.

DATES: Each LOMR was finalized as in the table below.

ADDRESSES: Each LOMR is available for inspection at both the respective Community Map Repository address listed in the table below and online through the FEMA Map Service Center at https://msc.fema.gov.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Map Information eXchange (FMIX) online at https://www.floodmaps.fema.gov/fhm/fmx_main.html.

SUPPLEMENTARY INFORMATION: The Federal Emergency Management Agency (FEMA) makes the final flood hazard determinations as shown in the LOMRs for each community listed in the table below. Notice of these modified flood hazard determinations has been published in newspapers of local circulation and 90 days have elapsed since that publication. The Deputy Associate Administrator for Insurance and Mitigation has resolved any appeals resulting from this notification.

The modified flood hazard determinations are made pursuant to section 206 of the Flood Disaster Protection Act of 1973, 42 U.S.C. 4105, and are in accordance with the National Flood Insurance Act of 1968, 42 U.S.C. 4001 et seq., and with 44 CFR part 65.

For rating purposes, the currently effective community number is shown and must be used for all new policies and renewals.

The new or modified flood hazard information is the basis for the floodplain management measures that the community is required either to adopt or to show evidence of being already in effect in order to remain qualified for participation in the National Flood Insurance Program (NFIP).

This new or modified flood hazard information, together with the floodplain management criteria required by 44 CFR 60.3, are the minimum that are required. They should not be construed to mean that the community must change any existing ordinances that are more stringent in their floodplain management requirements. The community may at any time enact stricter requirements of its own or pursuant to policies established by other Federal, State, or regional entities.

This new or modified flood hazard determinations are used to meet the floodplain management requirements of the NFIP and are used to calculate the appropriate flood insurance premium rates for new buildings, and for the contents in those buildings. The changes in flood hazard determinations are in accordance with 44 CFR 65.4.

Interested lessees and owners of real property are encouraged to review the final flood hazard information available at the address cited below for each community or online through the FEMA Map Service Center at https://msc.fema.gov.

(Catalog of Federal Domestic Assistance No. 97.022, “Flood Insurance.”)

Michael M. Grimm,
Assistant Administrator for Risk Management, Department of Homeland Security, Federal Emergency Management Agency.

State and county | Location and case No. | Chief executive officer of community | Community map repository | Date of modification | Community No.
Colorado:
Adams (FEMA Docket No.: B-1958). | City of Commerce City (19-08-0227P). | The Honorable Sean Ford, Mayor, City of Commerce City, 7887 East 60th Avenue, Commerce City, CO 80022. | City Hall, 5291 East 60th Avenue, Commerce City, CO 80022. | Oct. 30, 2019 | 080006
Denver (FEMA Docket No.: B-1952). | City and County of Denver (19-08-0639P). | The Honorable Michael B. Hancock, Mayor, City and County of Denver, 1437 Bannock Street, Suite 350, Denver, CO 80202. | Department of Public Works, 201 West Colfax Avenue, Denver, CO 80202. | Nov. 8, 2019 | 080046
Jefferson (FEMA Docket No.: B-1952). | City of Westminster (19-08-0502P). | The Honorable Herb Atchison, Mayor, City of Westminster, 4800 West 92nd Avenue, Westminster, CO 80031. | City Hall, 4800 West 92nd Avenue, Westminster, CO 80031. | Nov. 8, 2019 | 080008
Weld (FEMA Docket No.: B-1958). | Town of Firestone (18-08-1233P). | The Honorable Bobbi Sindelar, Mayor, Town of Firestone, P.O. Box 100, Firestone, CO 80520. | Town Hall, 151 Grant Avenue, Firestone, CO 80520. | Oct. 28, 2019 | 080241
Weld (FEMA Docket No.: B-1958). | Town of Frederick (18-08-1233P). | The Honorable Tony Carey, Mayor, Town of Frederick, P.O. Box 435, Frederick, CO 80530. | Town Hall, 401 Locust Street, Frederick, CO 80530. | Oct. 28, 2019 | 080244
Florida:
Broward (FEMA Docket No.: B-1952). | City of Hollywood (19-04-0557P). | Mr. Wazir Ishmael, Manager, City of Hollywood, 2600 Hollywood Boulevard, Room 419, Hollywood, FL 33022. | Public Utilities Department, 2600 Hollywood Boulevard, Room 308, Hollywood, FL 33022. | Nov. 4, 2019 | 125113
Hillsborough (FEMA Docket No.: B-1952). | Unincorporated areas of Hillsborough County (19-04-1062P). | Mr. Mike Merrill, Hillsborough County Administrator, 601 East Kennedy Boulevard, Tampa, FL 33602. | Hillsborough County Development Services Department, 1400 North Boulevard, Tampa, FL 33607. | Nov. 4, 2019 | 120112
Lee (FEMA Docket No.: B-1948). | Town of Fort Myers Beach (19-04-0629P). | The Honorable Anita Cereceda, Mayor, Town of Fort Myers Beach, 2525 Estero Boulevard, Fort Myers Beach, FL 33931. | Community Development Department, 2525 Estero Boulevard, Fort Myers Beach, FL 33931. | Oct. 28, 2019 | 120673
Lee (FEMA Docket No.: B-1948). | Town of Fort Myers Beach (19-04-1744P). | The Honorable Anita Cereceda, Mayor, Town of Fort Myers Beach, 2525 Estero Boulevard, Fort Myers Beach, FL 33931. | Community Development Department, 2525 Estero Boulevard, Fort Myers Beach, FL 33931. | Oct. 22, 2019 | 120673
Manatee (FEMA Docket No.: B-1952). | City of Bradenton Beach (19-04-3423P). | The Honorable John Chappie, Mayor, City of Bradenton Beach, 107 Gulf Drive North, Bradenton Beach, FL 34217. | Building Department, 107 Gulf Drive North, Bradenton Beach, FL 34217. | Nov. 12, 2019 | 125091
Monroe (FEMA Docket No.: B-1952). | City of Marathon (19-04-3625P). | The Honorable John Bartus, Mayor, City of Marathon, 9805 Overseas Highway, Marathon, FL 33050. | Planning Department, 9805 Overseas Highway, Marathon, FL 33050. | Nov. 12, 2019 | 120681
Monroe (FEMA Docket No.: B-1948). | Unincorporated areas of Monroe County (19-04-3275P). | The Honorable Sylvia Murphy, Mayor, Monroe County Board of Commissioners, 102050 Overseas Highway, Suite 234, Key Largo, FL 33037. | Monroe County Building Department, 2798 Overseas Highway, Suite 300, Marathon, FL 33050. | Oct. 28, 2019 | 125129
Monroe (FEMA Docket No.: B-1952). | Unincorporated areas of Monroe County (19-04-3471P). | The Honorable Sylvia Murphy, Mayor, Monroe County Board of Commissioners, 102050 Overseas Highway, Suite 234, Key Largo, FL 33037. | Monroe County Building Department, 2798 Overseas Highway, Suite 300, Marathon, FL 33050. | Nov. 4, 2019 | 125129
Monroe (FEMA Docket No.: B-1952). | Village of Islamorada (19-04-3477P). | The Honorable Deb Gills, Mayor, Village of Islamorada, 86800 Overseas Highway, Islamorada, FL 33036. | Building Department, 86800 Overseas Highway, Islamorada, FL 33036. | Nov. 12, 2019 | 120424
Orange (FEMA Docket No.: B-1948). | City of Ocoee (19-04-0035P). | The Honorable Rusty Johnson, Mayor, City of Ocoee, 150 North Lakeshore Drive, Ocoee, FL 34761. | Planning and Zoning Division, 150 North Lakeshore Drive, Ocoee, FL 34761. | Nov. 4, 2019 | 120185
Sarasota (FEMA Docket No.: B-1952). | Unincorporated areas of Sarasota County (19-04-2523P). | The Honorable Charles D. Hines, Chairman, Sarasota County Board of Commissioners, 1660 Ringling Boulevard, Sarasota, FL 34236. | Sarasota County Planning and Development Services Department, 1001 Sarasota Center Boulevard, Sarasota, FL 34240. | Nov. 12, 2019 | 125144
North Carolina: Surry (FEMA Docket No.: B-1939). | City of Mount Airy (18-04-4879P). | The Honorable David Rowe, Mayor, City of Mount Airy, 300 South Main Street, Mount Airy, NC 27030. | City Hall, 300 South Main Street, Mount Airy, NC 27030. | Sep 12, 2019 | 370226
Pennsylvania:
Lancaster (FEMA Docket No.: B-1958). | Township of East Lampeter (19-03-1025P). | Mr. Ralph Hutchison, Manager, Township of East Lampeter, 2250 Old Philadelphia Pike, Lancaster, PA 17602. | Planning, Zoning and Building Department, 2250 Old Philadelphia Pike, Lancaster, PA 17602. | Oct. 28, 2019 | 421771
Lancaster (FEMA Docket No.: B-1958). | Township of Leacock (19-03-1025P). | The Honorable Frank Howe, Chairman, Township of Leacock Board of Supervisors, P.O. Box 558, Intercourse, PA 17534. | Zoning Department, 3545 West Newport Road, Intercourse, PA 17534. | Oct. 28, 2019 | 420958
Lancaster (FEMA Docket No.: B-1958). | Township of Paradise (19-03-1025P). | The Honorable Donald L. Ranck, Chairman, Township of Paradise Board of Supervisors, P.O. Box 40, Paradise, PA 17562. | Zoning Department, 2 Township Drive, Paradise, PA 17562. | Oct. 28, 2019 | 421777
Union (FEMA Docket No.: B-1952). | Borough of Lewisburg (18-03-1763P). | The Honorable Judith T. Wagner, Mayor, Borough of Lewisburg, 127 Spruce Street, Lewisburg, PA 17837. | Borough Hall, 55 South 5th Street, 127 Spruce Street, Lewisburg, PA 17837. | Nov. 12, 2019 | 480831
Union (FEMA Docket No.: B-1952). | Township of East Buffalo (18-03-1763P). | The Honorable Char Gray, Chairman, Township of East Buffalo Board of Supervisors, 589 Fairground Road, Lewisburg, PA 17837. | Township Hall, 589 Fairground Road, Lewisburg, PA 17837. | Nov. 12, 2019 | 421011
South Carolina: Lexington (FEMA Docket No.: B-1948). | Unincorporated areas of Lexington County (18-04-6164P). | The Honorable Scott Whetstone, Chairman, Lexington County Council, 212 South Lake Drive, Suite 601, Lexington, SC 29072. | Lexington County Community Development Department, 212 South Lake Drive, Suite 401, Lexington, SC 29072. | Oct. 25, 2019 | 450129
Texas:
Bexar (FEMA Docket No.: B-1967). | City of San Antonio (18-06-3650P). | The Honorable Ron Nirenberg, Mayor, City of San Antonio, P.O. Box 839966, San Antonio, TX 78283. | Transportation and Capitol Improvements Department, Storm Water Division, 1901 South Alamo Street, 2nd Floor, San Antonio, TX 78204. | Nov. 12, 2019 | 480045
Bexar (FEMA Docket No.: B-1958). | City of San Antonio (19-06-0514P). | The Honorable Ron Nirenberg, Mayor, City of San Antonio, P.O. Box 839966, San Antonio, TX 78283. | Transportation and Capitol Improvements Department, Storm Water Division, 1901 South Alamo Street, 2nd Floor, San Antonio, TX 78204. | Nov. 4, 2019 | 480045
Denton (FEMA Docket No.: B-1952). | City of Frisco (19-06-0120P). | The Honorable Jeff Cheney, Mayor, City of Frisco, 6101 Frisco Square Boulevard, Frisco, TX 75034. | Engineering Services Department, 6101 Frisco Square Boulevard, Frisco, TX 75034. | Nov. 12, 2019 | 480134
Denton (FEMA Docket No.: B-1952). | City of The Colony (19-06-1578P). | The Honorable Joe McCourry, Mayor, City of The Colony, 6800 Main Street, The Colony, TX 75056. | Engineering Department, 6800 Main Street, The Colony, TX 75056. | Nov. 12, 2019 | 481581
Denton (FEMA Docket No.: B-1952). | Town of Little Elm (19-06-0120P). | The Honorable David Hillock, Mayor, Town of Little Elm, 100 West Eldorado Parkway, Little Elm, TX 75068. | Development Services Department, 100 West Eldorado Parkway, Little Elm, TX 75068. | Nov. 12, 2019 | 481152
Denton (FEMA Docket No.: B-1952). | Unincorporated areas of Denton County (19-06-0120P). | The Honorable Andy Eads, Denton County Judge, 110 West Hickory Street, 2nd Floor, Denton, TX 76201. | Denton County Public Works, Engineering Department, 1505 East McKinney Street, Suite 175, Denton, TX 76201. | Nov. 12, 2019 | 480774
Harris (FEMA Docket No.: B-1958). | Unincorporated areas of Harris County (19-06-0808P). | The Honorable Lina Hidalgo, Harris County Judge, 1001 Preston Street, Suite 911, Houston, TX 77002. | Harris County Permit Office, 10555 Northwest Freeway, Suite 120, Houston, TX 77092. | Oct. 28, 2019 | 480287
Potter (FEMA Docket No.: B-1952). | Unincorporated areas of Potter County (19-06-0488P). | The Honorable Nancy Tanner, Potter County Judge, 500 South Fillmore Street, Suite 103, Amarillo, TX 79101. | Potter County Courthouse, 500 South Fillmore Street, Amarillo, TX 79101. | Nov. 4, 2019 | 481241
Tarrant (FEMA Docket No.: B-1954). | City of Keller (19-06-1585P). | The Honorable Pat McGrail, Mayor, City of Keller, P.O. Box 770, Keller, TX 76244. | Public Works Department, 1100 Bear Creek Parkway, Keller, TX 76248. | Oct. 24, 2019 | 480602

[FR Doc. 2019-26420 Filed 12-6-19; 8:45 am]

BILLING CODE 9110-12-P